EXPORT-IMPORT BANK OF THE U.S.

[Public Notice 2010-0052]

Agency Information Collection Activities: Comment Request

AGENCY: Export-Import Bank of the U.S.

ACTION: Submission for OMB Review and Comments Request.

Form Title: Notice of Claim and Proof of Loss, Working Capital Guarantee.

SUMMARY: The Export-Import Bank of the United States (“Ex-Im Bank”) is the official export credit agency of the United States. Its mission is to create and sustain U.S. jobs by financing U.S. exports through direct loans, guarantees, insurance and working capital credits. By neutralizing the effect of export credit support offered by foreign governments and by absorbing credit risks that the private sector will not accept, Ex-Im Bank enables U.S. exporters to compete fairly in foreign markets on the basis of price and product. Under the Working Capital Guarantee Program, Ex-Im Bank provides repayment guarantees to lenders on secured, short-term working capital loans made to qualified exporters. The guarantee may be approved for a single loan or a revolving line of credit.

In the event that a borrower defaults on a transaction guaranteed by Ex-Im Bank the guaranteed lender may seek payment by the submission of a claim. This collection of information is necessary, pursuant to 12 U.S.C. 635(a)(1), to determine if such claim complies with the terms and conditions of the relevant insurance policy.

This form can be reviewed at http://www.exim.gov/pub/pending/EIB_10_04 Claim_Filing_Form-Working Capital.pdf.

DATES: Comments should be received on or before January 18, 2011.

ADDRESSES: Comments maybe submitted electronically on http://www.regulations.gov or by mail to Michele Kuester, Export Import Bank of the United States, 811 Vermont Ave., NW., Washington, DC 20571.

SUPPLEMENTARY INFORMATION:

Titles and Form Number: Notice of Claim and Proof of Loss, Working Capital Guarantee (EIB 10-04).

OMB Number: 3048-XXXX.

Type of Review: New.

Need and Use: This collection provides Ex-Im Bank staff with the information necessary to process the filing of a claim for a defaulted transaction under Ex-Im Bank's Working Capital Guarantee program.

Number of respondents: 20.

Sharon A. Whitt,
Agency Clearance Officer.

[FR Doc. 2010-28730 Filed 11-15-10; 8:45 am]

BILLING CODE 6690-01-P